DEPARTMENT OF THE INTERIOR

Fish and Wildlife Service

[FWS-R1-R-2012-N049; 1265-0000-1037-S3]

Hart Mountain National Antelope Refuge, Lake County, OR; Draft Comprehensive Conservation Plan and Draft Environmental Impact Statement

AGENCY: Fish and Wildlife Service, Interior.

ACTION: Notice of intent; request for comments.

SUMMARY: We, the U.S. Fish and Wildlife Service (Service), intend to revise the comprehensive conservation plan (CCP) for Hart Mountain National Antelope Refuge (Refuge). An environmental impact statement (EIS) evaluating effects of various CCP alternatives will also be prepared. We provide this notice in compliance with the National Environmental Policy Act and our CCP policy to advise the public, other Federal and State agencies, and Tribes of our intentions and to obtain public comments, suggestions, and information on the scope of issues to consider in the planning process.

DATES: To ensure consideration, please send your written comments by July 24, 2012. We will hold public meetings to begin the CCP planning process in various communities in the vicinity of the Refuge. Meeting dates, times, and locations will be announced in news releases, planning updates, and on our Web site: http://www.fws.gov/sheldonhartmtn/Hart/refuge_planning.html.

ADDRESSES: Information about the Refuge is available on our Web site http://www.fws.gov/sheldonhartmtn/Hart/index.html. Send your comments or requests for information by any of the following methods:

Online: http://www.fws.gov/sheldonhartmtn/Hart/refuge_planning.html. Follow the web link to our online comment form.

U.S. Mail: Project Leader, Sheldon—Hart Mountain National Wildlife Refuge Complex, P.O. Box 111, Lakeview, OR 97630.

FOR FURTHER INFORMATION CONTACT: Aaron Collins, (541) 947-3315, ext. 223.

SUPPLEMENTARY INFORMATION:

Introduction

With this notice, we initiate our process for revising the Refuge CCP. This notice complies with our CCP policy and the National Environmental Policy Act of 1969, as amended (NEPA) (42 U.S.C. 4321 et seq.), to (1) advise other Federal and State agencies, Tribes, and the public of our intention to conduct detailed planning on this refuge and (2) obtain suggestions and information on the scope of issues to consider in the EIS and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (Refuge System), consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCPs at least every 15 years in accordance with the Refuge Administration Act. The existing management plan for the Refuge was completed in 1994. The revised CCP will include updates and changes needed to comply with the Refuge Administration Act and current Service policies.

Each unit of the Refuge System was established for specific purposes. We use these purposes as the foundation for developing and prioritizing the management goals and objectives for each refuge within the Refuge System mission and to determine how the public can use each refuge. The planning process is a way for us and the public to evaluate management goals and objectives that will ensure the best possible approach to wildlife, plant, and habitat conservation, while providing for wildlife-dependent recreation opportunities that are compatible with each refuge's establishing purposes and the mission of the Refuge System.

Our CCP process provides participation opportunities for Tribal, State, and local governments; agencies; organizations; and the public. At this time we encourage input in the form of issues, concerns, ideas, and suggestions for the future management of the Refuge.

We will conduct the environmental review of this project and develop an EIS in accordance with the requirements of NEPA, NEPA regulations (40 CFR parts 1500-1508), other appropriate Federal laws and regulations, and our policies and procedures for compliance with those laws and regulations.

Hart Mountain National Antelope Refuge

The Refuge's approved boundary encompasses 277,893 acres of sagebrush steppe uplands in Lake County, Oregon; of this, the Service owns approximately 270,686 acres. The Refuge was established for the following purposes.

“* * * as a range and breeding ground for antelope and other species of wildlife * * *” Executive Antelope Range (OR) Order 7523, dated Dec. 21, 1936;

“* * * for use as an inviolate sanctuary, or for any other management purpose, for migratory birds.” 16 U.S.C. 715d (Migratory Bird Conservation Act);

“* * * for the development, advancement, management, conservation, and protection of fish and wildlife resources * * *” 16 U.S.C. 742f(a)(4);

“* * * for the benefit of the United States Fish and Wildlife Service, in performing its activities and services * * *” 16 U.S.C. 742f(b)(1) (Fish and Wildlife Act of 1956); and

“* * * suitable for—(1) incidental fish and wildlife-oriented recreational development, (2) the protection of natural resources, (3) the conservation of endangered species or threatened species * * *” 16 U.S.C. 460k-1.

The Refuge encompasses a massive fault block ridge known as Hart Mountain, which ascends abruptly almost three-quarters of a mile above the Warner Valley and then extends along nearly the entire western edge of the Refuge in a series of rugged cliffs, steep slopes, and knife-like ridges. The eastern slope descends gradually in a series of hills and a broad, gentle plain. Refuge habitats primarily include various sagebrush uplands interspersed with meadows, seasonal shallow playas, and pothole lakes. Aspen line the few perennial streams, and western juniper cover steep canyon slopes along the mountain escarpment. The Refuge provides important but seasonal habitat for its signature species, the American pronghorn antelope, and also for mule deer, bighorn sheep, and a wide variety of raptors and smaller migratory birds. The Refuge also provides habitat for year-round resident wildlife, which includes a full assemblage of sagebrush steppe mammals, amphibians, fish, invertebrates, and birds, and provides some of the most intact and important remaining habitat for the imperiled greater sage-grouse.

Preliminary Issues, Concerns, and Opportunities

The following preliminary issues, concerns, and opportunities have been identified for the Refuge, and may be evaluated in the CCP. Additional issues may be identified during public scoping.

• Habitat management and restoration. What management actions are needed to sustain and restore antelope and priority species and habitats over the next 15 years? How is the quality of the Refuge's sagebrush steppe habitat being impacted by fire suppression and encroachment from western juniper? What effects will climate change have on pronghorn and other species the Refuge was established to conserve?

• Invasive species control. Invasive species, primarily cheatgrass (Bromus tectorum), degrade habitat for most sagebrush steppe wildlife. How can we reduce the incidence and spread of cheatgrass and other damaging weeds while maintaining a healthy mosaic of sagebrush habitats?

• Visitor services and education opportunities. Compatible wildlife observation, photography, interpretation, environmental education, fishing, and hunting are provided at the Refuge. How can we improve the quality of these services and programs while minimizing impacts to Refuge wildlife and habitats? What volunteer programs and partnerships can we develop to improve outreach and education and ensure adequate visitor facilities are maintained in keeping with the Refuge's primitive and historic character?

• Land protection and planning. Fish and wildlife depend not only upon the Refuge, but also a much larger supporting landscape influenced by changes in climate, land use, and other activities. What management actions, including partnerships and/or additional landscape protection measures, are needed to sustain and restore priority species and habitats, maintain water quality, improve habitat protection and connectivity, and reduce habitat fragmentation?

• Wildlife and habitat monitoring. What data are needed and how can we obtain those data regarding antelope and key species and their habitats to accurately measure population numbers and trends and to measure the effectiveness of projects and progress toward our management objectives in order to adjust future management actions accordingly?

The following issue, previously addressed, will not be considered in the CCP.

• Grazing. In the Refuge's 1994 management plan, livestock grazing was evaluated and found incompatible with the purposes for the Refuge and the use was discontinued. Following amendment of the National Wildlife Refuge System Administration Act of 1966 (16 U.S.C. 668dd-668ee) by the National Wildlife Refuge System Improvement Act of 1997, the Service adopted an Appropriate Use Policy. The Appropriate Use Policy requires an Appropriate Use analysis and finding for uses of a refuge prior to the completion of a Compatibility Determination. Pursuant to this policy, we have reevaluated the use of livestock grazing on Hart Mountain National Antelope Refuge through an Appropriate Use Finding. Considering results from a number of studies that evaluated changes in conditions and management of Refuge habitats following livestock removal, we have determined that grazing is not beneficial to Refuge resources and cannot be accommodated without impacting existing wildlife-dependent uses. Therefore, we have concluded that livestock grazing is not an appropriate use on the Hart Mountain National Antelope Refuge and will not be considered in the revised CCP.

Public Meetings

We will give the public an opportunity to provide input at public meetings. We will hold a meeting on May 31, 2012, at 6 p.m. at Daly Middle School, 220 South H Street, Lakeview, Oregon. We will hold another meeting on June 4, 2012, at 6 p.m. at Plush Elementary School in Plush, Oregon. These public open houses will be announced in press releases, planning updates, and on our Web site: http://www.fws.gov/sheldonhartmtn/Hart/refuge_planning.html. You may also send comments anytime during the planning process by mail or email (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Dated: April 2, 2012.
Richard R. Hannan,
Acting Regional Director, Pacific Region, Portland, Oregon.

[FR Doc. 2012-12353 Filed 5-24-12; 8:45 am]

BILLING CODE 4410-55-P